DEPARTMENT OF THE INTERIOR

Bureau of Land Management

[LLWO210000.16X.L11100000.PH0000 LXSISGST0000]

Cancellation of Bureau of Land Management Public Meeting for the Sagebrush Focal Areas Proposed Withdrawal, Oregon

AGENCY: Bureau of Land Management, Interior.

ACTION: Notice.

SUMMARY: This notice cancels the public meeting scheduled for December 14, 2015 at the Harney County Chamber of Commerce building located at 484 North Broadway, Burns, Oregon, as published in the Federal Register on November 13, 2015, (80 FR 70252). Parties interested in participating in the public process are encouraged to attend the meetings scheduled at the Bureau of Land Management District Office in Lakeview, Oregon on December 14th from 5 p.m. to 7 p.m., or the Best Western Vista Inn & Conference Center, at 2645 Airport Way, Boise, Idaho on December 15th from 4 p.m. to 6 p.m.

Michael Stiewig,
Chief, Division of Lands, Realty, and Cadastral Survey.

[FR Doc. 2015-30222 Filed 11-25-15; 8:45 am]

BILLING CODE 4310-84-P